DEPARTMENT OF TRANSPORTATION

Federal Aviation Administration

Twenty-Eighth (28th) Joint Meeting, RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held October 16-20, 2006, starting at 1 p.m.

ADDRESSES: The meeting will be held at EUROCAE, 102 RUE Etienne Dolet, 92204 Malakoff-France.

FOR FURTHER INFORMATION CONTACT: (1) RTCA Secretariat (Hal Moses), 1828 L Street, NW., Suite 805, Washington, DC 20036, (202) 833-9339; fax (202) 833-9434; Web site http://www.rtca.org. Additional information on directions, maps, and nearby hotels may be found by accessing the RTCA Web site. (2) EUROCAE Contact: Gilbert Amato—Secretary General, Tel: +33 (0)1 40 92 79 30; fax +33 (0)1 46 55 62 65; e-mail gilbert.amato@eurocae.com.

Note: Submit your name and company to serge.bagieu@airbus.com no later than October 1, 2006. Information on EUROCAE can be found at http://www.eurocae.org/. Dress is business casual.

SUPPLEMENTARY INFORMATION: Pursuant to section 10(a)(2) of the Federal Advisory Committee Act (Pub. L. 92-463, 5 U.S.C., Appendix 2), notice is hereby given for a Special Committee 189/EUROCAE Working Group 53 meeting.

Meeting Objectives

• Produce Oceanic Safety and Performance Standard (PU-24) for final review and consultation (FRA).

• Resolve all FRAC comments and produce final draft for approval and publication of the following:

• New document, FANS 1/A-ATN Interoperability Standard (PU-40).

• Revised document, ED-110B/DO-280B, ATN B1 Interoperability Standard.

• Revised document, ED-120A/DO290A, Continental SPR Standard.

Note: See current work item index attached to Summary of the 27th Meeting for details on scope of work.

• The plenary agenda will include:

• October 16:

• Opening Plenary Session (Welcome, Introductions, and Administrative Remarks, Review and approval of Agenda and Meeting Minutes) Administrative.

• SC-189/WG-53 co-chair progress report and review of work program.

• Determine and agree to breakout groups if necessary.

• October 17-19:

• Breakout groups, as agreed, and plenary debriefs, as necessary.

• October 20:

• Breakout Groups.

• Debrief on Progress for the Week.

• Closing Plenary Session (Review schedule and new action items. Any other business, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 14, 2006.
Francisco Estrada C.,
RTCA Advisory Committee.

[FR Doc. 06-8307 Filed 9-26-06; 8:45 am]

BILLING CODE 4910-13-M